DEPARTMENT OF COMMERCE

International Trade Administration

[A-570-932]

Certain Steel Threaded Rod From the People's Republic of China: Final Results of Antidumping Duty Administrative Review; 2012-2013

AGENCY: Enforcement and Compliance, International Trade Administration, Department of Commerce.

SUMMARY: The Department of Commerce (the “Department”) published the Preliminary Results of the fourth administrative review of the antidumping duty order on certain steel threaded rod from the People's Republic of China (“PRC”) on May 28, 2014.¹ We gave interested parties an opportunity to comment on the Preliminary Results. Based upon our analysis of the comments and information received, we made changes to the margin calculations for these final results. The final dumping margins are listed below in the “Final Results of Administrative Review” section of this notice. The period of review (“POR”) is April 1, 2012, through March 31, 2013.

¹ See Certain Steel Threaded Rod from the People's Republic of China: Preliminary Results and Partial Rescission of the Antidumping Duty Administrative Review; 2012-2013, 79 FR 30543 (May 28, 2014) (“Preliminary Results”), and accompanying Decision Memorandum.

DATES: Effective Date: December 3, 2014.

FOR FURTHER INFORMATION CONTACT: Julia Hancock or Jerry Huang, AD/CVD Operations, Office V, Enforcement and Compliance, International Trade Administration, U.S. Department of Commerce, 14th Street and Constitution Avenue NW., Washington, DC 20230; telephone 202-482-1394 or 202-482-4047, respectively.

SUPPLEMENTARY INFORMATION:

Background

The Department published the Preliminary Results on May 28, 2014.² Between May 21, 2014, and July 15, 2014, the Department issued supplemental questionnaires to RMB Fasteners Ltd., IFI & Morgan Ltd., and Jiaxing Brother Standard Part Co., Ltd. (collectively “the RMB/IFI Group”). On June 18, 2014, and July 22, 2014, the RMB/IFI Group submitted its responses to those supplemental questionnaires.

² Id.

In accordance with 19 CFR 351.309, we invited parties to comment on our Preliminary Results. Between August 4, 2014, and August 11, 2014, interested parties submitted case and rebuttal briefs. Additionally, on August 25, 2014, the Department extended the deadline for the final results to November 4, 2014.³ Moreover, on October 22, 2014, the Department again extended the final results to November 24, 2014.⁴

³ See Memorandum to Gary Taverman, Associate Deputy Assistant Secretary for Antidumping and Countervailing Duty Operations, through James Doyle, Office Director, from Julia Hancock, Senior International Trade Compliance Analyst, “Certain Steel Threaded Rod from the People's Republic of China: Extension of Deadline for Final Results of Administrative Review” (August 25, 2014).

⁴ See Memorandum to Christian Marsh, Deputy Assistant Secretary for Antidumping and Countervailing Duty Operations, through James Doyle, Office Director, from Jerry Huang, Senior International Trade Compliance Analyst, “Certain Steel Threaded Rod from the People's Republic of China: Second Extension of Deadline for Final Results of Administrative Review” (October 22, 2014).

Scope of the Order

The merchandise covered by the order includes steel threaded rod. The subject merchandise is currently classifiable under subheading 7318.15.5051, 7318.15.5056, 7318.15.5090, and 7318.15.2095 of the United States Harmonized Tariff Schedule (“HTSUS”). Although the HTSUS subheadings are provided for convenience and customs purposes, our written description of the scope of the order, which is contained in the accompanying Issues and Decision Memorandum (“I&D Memo”), is dispositive.⁵

⁵ For a full description of the scope of the order, see Memorandum from Christian Marsh, Deputy Assistant Secretary for Antidumping and Countervailing Duty Operations, to Paul Piquado, Assistant Secretary for Enforcement and Compliance, “Issues and Decision Memorandum for the Final Results of Fourth Antidumping Duty Administrative Review: Certain Steel Threaded Rod from the People's Republic of China” (November 21, 2014) (“I&D Memo”).

Analysis of Comments Received

We addressed all issues raised in the case and rebuttal briefs by parties in these reviews in the I&D Memo, and attached to this notice, in Appendix I, a list of the issues which parties raised. The I&D Memo is a public document and is on file in the Central Records Unit (“CRU”), Room 7046 of the main Department of Commerce building, as well as electronically via Enforcement and Compliance's Antidumping and Countervailing Duty Centralized Electronic Service System (“ACCESS”). ACCESS is available to registered users at http://access.trade.gov and in the CRU. In addition, a complete version of the I&D Memo can be accessed directly on the internet at http://enforcement.trade.gov/frn/index.html. The signed I&D Memo and the electronic versions of the I&D Memo are identical in content.

Changes Since the Preliminary Results

Based on a review of the record and comments received from interested parties regarding our Preliminary Results, we revised the margin calculations for the RMB/IFI Group. Specifically, we incorporated into our calculations a revised database that was submitted by the RMB/IFI Group after the Preliminary Results.⁶ For a list of all issues addressed in these final results, please refer to Appendix I accompanying this notice.

⁶ See Memorandum to the File, through Scot T. Fullerton, Program Manager, Office V, from Julia Hancock and Jerry Huang, Senior Case Analysts, Office V, “Final Results for RMB/IFI Group” (November 21, 2014) (“RMB/IFI Group Final Results Analysis Memo”).

PRC-Wide Rate and PRC-Wide Entity

For the PRC-Wide Entity, the Department in the Preliminary Results assigned the rate of 206 percent, the only rate ever determined for the PRC-Wide Entity in this proceeding.⁷ Because this rate is the same as the PRC-Wide rate from previous segments in this proceeding and nothing on the record of the instant review calls into question the reliability of the PRC-Wide rate, we find it appropriate to continue to apply the PRC-Wide rate of 206 percent.⁸

⁷ See Preliminary Results, 79 FR at 30544, and accompanying Decision Memorandum at 5-6.

⁸ See, e.g., Certain Steel Threaded Rod from the People's Republic of China: Final Determination of Sales at Less Than Fair Value, 74 FR 8907, 8910 (February 27, 2009).

In the Preliminary Results, the Department determined that those companies which did not demonstrate eligibility for a separate rate are properly considered part of the PRC-Wide Entity.⁹ Since the Preliminary Results, none of these companies submitted comments regarding these findings. Therefore, we continue to treat these companies as part of the PRC-Wide Entity.¹⁰

⁹ See Preliminary Results, 79 FR at 30544, and accompanying Decision Memorandum at 5-6.

¹⁰ For a list of companies that are subject to this administrative review as part of the PRC-Wide Entity, see Appendix II to this notice.

Additionally, in the Preliminary Results, for 68 companies, the Department found that, while the request for review had been withdrawn, none of these companies had a separate rate. Accordingly, these 68 companies remained part of the PRC-wide entity, which remained under review for the Preliminary Results.¹¹ Thus, the Department did not rescind the review for any of these 68 companies in the Preliminary Results.¹² Since the Preliminary Results, no party has presented any information to the contrary and thus, these 68 companies remain part of the PRC-Wide Entity, which remains under review for the final results.¹³

¹¹ See Preliminary Results, 79 FR at 30544, and accompanying Decision Memorandum at 5-6.

¹² See, e.g., Narrow Woven Ribbons With Woven Selvedge From the People's Republic of China: Preliminary Results and Partial Rescission of Antidumping Duty Administrative Review, 77 FR 47363, 47365 (August 8, 2012), unchanged in Narrow Woven Ribbons With Woven Selvedge From the People's Republic of China: Final Results of Antidumping Duty Administrative Review; 2010- 2011, 78 FR 10130 (February 13, 2013). A change in practice with respect to the conditional review of the PRC-wide entity is not applicable to this administrative review. See Antidumping Proceedings: Announcement of Change in Department Practice for Respondent Selection in Antidumping Duty Proceedings and Conditional Review of the Nonmarket Economy Entity in NME Antidumping Duty Proceedings, 78 FR 65964, 65969-70 (November 4, 2013).

¹³ For a list of companies that are subject to this administrative review as part of the PRC-Wide Entity, see Appendix II to this notice.

Final Results of Administrative Review

The weighted-average dumping margins for the administrative review are as follows:

Exporter | Weighted-average margin (percent)
IFI & Morgan Ltd. and RMB Fasteners Ltd. (collectively “RMB/IFI Group”) | 47.62
PRC-Wide Rate ¹⁴ | 206.00

Assessment Rates

Pursuant to section 751(a)(2)(A) of the Tariff Act of 1930, as amended (“the Act”), and 19 CFR 351.212(b), the Department will determine, and U.S. Customs and Border Protection (“CBP”) shall assess, antidumping duties on all appropriate entries of subject merchandise in accordance with the final results of this review. The Department intends to issue appropriate assessment instructions directly to CBP 15 days after publication of the final results of this administrative review.

¹⁴ The PRC-Wide Entity includes the companies listed in Appendix II to this notice.

Where the respondent reported reliable entered values, we calculated importer (or customer)-specific ad valorem rates by aggregating the dumping margins calculated for all U.S. sales to each importer (or customer) and dividing this amount by the total entered value of the sales to each importer (or customer).¹⁵ Where the Department calculated a weighted-average dumping margin by dividing the total amount of dumping for reviewed sales to that party by the total sales quantity associated with those transactions, the Department will direct CBP to assess importer-specific assessment rates based on the resulting per-unit rates.¹⁶ Where an importer- (or customer-) specific ad valorem or per-unit rate is greater than de minimis, the Department will instruct CBP to collect the appropriate duties at the time of liquidation.¹⁷ Where an importer- (or customer-) specific ad valorem or per-unit rate is zero or de minimis, the Department will instruct CBP to liquidate appropriate entries without regard to antidumping duties.¹⁸

¹⁵ See 19 CFR 351.212(b)(1).

¹⁶ Id.

¹⁷ Id.

¹⁸ See 19 CFR 351.106(c)(2).

The Department announced a refinement to its assessment practice in non-market economy cases. Pursuant to this refinement in practice, for entries that were not reported in the U.S. sales databases submitted by companies individually examined during this review, the Department will instruct CBP to liquidate such entries at the PRC-Wide rate. Additionally, if the Department determines that an exporter had no shipments of the subject merchandise, any suspended entries that entered under that exporter's case number (i.e., at that exporter's rate) will be liquidated at the PRC-Wide rate.¹⁹

¹⁹ See Non-Market Economy Antidumping Proceedings: Assessment of Antidumping Duties, 76 FR 65694 (October 24, 2011).

Cash Deposit Requirements

The following cash deposit requirements will be effective upon publication of the final results of this administrative review for all shipments of the subject merchandise entered, or withdrawn from warehouse, for consumption on or after the publication date, as provided for by section 751(a)(2)(C) of the Act: (1) For the exporters listed above, the cash deposit rate will be the rate established in the final results of review (except, if the rate is zero or de minimis, i.e., less than 0.5 percent, a zero cash deposit rate will be required for that company); (2) for previously investigated or reviewed PRC and non-PRC exporters not listed above that have separate rates, the cash deposit rate will continue to be the exporter-specific rate published for the most recent period; (3) for all PRC exporters of subject merchandise which have not been found to be entitled to a separate rate, the cash deposit rate will be the PRC-Wide rate of 206 percent; and (4) for all non-PRC exporters of subject merchandise which have not received their own rate, the cash deposit rate will be the rate applicable to the PRC exporters that supplied that non-PRC exporter. The deposit requirements shall remain in effect until further notice.

Disclosure

We will disclose the calculations performed within five days of the date of publication of this notice to parties in this proceeding in accordance with 19 CFR 351.224(b).

Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties occurred and the subsequent assessment of doubled antidumping duties.

Administrative Protective Orders

This notice also serves as a reminder to parties subject to administrative protective order (“APO”) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

We are issuing and publishing these final results of administrative review in accordance with sections 751(a)(1) and 777(i) of the Act.

Dated: November 21, 2014.
Paul Piquado,
Assistant Secretary for Enforcement and Compliance.

Appendix I—Issues and Decision Memorandum

Comment I: Selection of the Surrogate Country

Comment II: Surrogate Value for Steel Wire Rod

Comment III: Surrogate Financial Ratio Calculations

Comment IV: Surrogate Value for Brokerage and Handling

Comment V: Denominator for Brokerage and Handling, and Inland Freight

Comment VI: Zeroing Methodology

Appendix II—Companies Subject to the Administrative Review That Are Part of the PRC-Wide Entity

Aihua Holding Group Co. Ltd.

Autocraft Industry (Shanghai) Ltd.

Autocraft Industry Ltd.

Billion Land Ltd.

C And H International Corporation

Changshu City Standard Parts Factory

China Brother Holding Group Co. Ltd.

China Friendly Nation Hardware Technology Limited

Ec International (Nantong) Co. Ltd.

Fastco (Shanghai) Trading Co., Ltd.

Fastwell Industry Co. Ltd.

Fuda Xiongzhen Machinery Co., Ltd.

Fuller Shanghai Co. Ltd.

Haiyan Dayu Fasteners Co., Ltd.

Haiyan Evergreen Standard Parts Co. Ltd.

Haiyan Hurras Import & Export Co. Ltd.

Haiyan Hurras Import Export Co. Ltd.

Haiyan Jianhe Hardware Co. Ltd.

Hangzhou Everbright Imp. & Exp. Co. Ltd.

Hangzhou Grand Imp. & Exp. Co., Ltd.

Hangzhou Great Imp. & Exp. Co. Ltd.

Hangzhou Lizhan Hardware Co. Ltd.

Hangzhou Tongwang Machinery Co., Ltd.

Jiabao Trade Development Co. Ltd.

Jiangsu Zhongweiyu Communication Equipment Co. Ltd.

Jiashan Steelfit Trading Co. Ltd.

Jiaxing Brother Standard Part

Jiaxing Yaoliang Import & Export Co. Ltd.

Jinan Banghe Industry & Trade Co., Ltd.

Macropower Industrial Inc.

Midas Union Co., Ltd.

Nanjing Prosper Import & Export Corporation Ltd.

New Pole Power System Co. Ltd.

Ningbiao Bolts & Nuts Manufacturing Co.

Ningbo Beilun Milfast Metalworks Co. Ltd.

Ningbo Dexin Fastener Co. Ltd.

Ningbo Dongxin High-Strength Nut Co., Ltd.

Ningbo Fastener Factory

Ningbo Fengya Imp. And Exp. Co. Ltd.

Ningbo Haishu Holy Hardware Import And Export Co. Ltd.

Ningbo Haishu Wit Import & Export Co. Ltd.

Ningbo Haishu Yixie Import & Export Co. Ltd.

Ningbo Jinding Fastening Pieces Co., Ltd.

Ningbo Mpf Manufacturing Co. Ltd.

Ningbo Panxiang Imp. & Exp, Co. Ltd.

Ningbo Yinzhou Foreign Trade Co., Ltd.

Ningbo Zhongjiang High Strength Bolts Co. Ltd

Ningbo Zhongjiang Petroleum Pipes & Machinery Co. Ltd.

Orient International Holding Shanghai Rongheng Intl Trading Co. Ltd.

Prosper Business And Industry Co., Ltd.

Qingdao Free Trade Zone Health Intl.

Qingdao Top Steel Industrial Co. Ltd.

Shaanxi Succeed Trading Co., Ltd.

Shanghai East Best Foreign Trade Co.

Shanghai East Best International Business Development Co., Ltd.

Shanghai Fortune International Co. Ltd.

Shanghai Furen International Trading

Shanghai Nanshi Foreign Economic Co.

Shanghai Overseas International Trading Co. Ltd.

Shanghai Printing & Dyeing And Knitting Mill

Shanghai Printing & Packaging Machinery Corp.

Shanghai Recky International Trading Co., Ltd.

Shanghai Sinotex United Corp. Ltd.

T and C Fastener Co. Ltd.

T and L Industry Co. Ltd.

Wuxi Metec Metal Co. Ltd.

Zhejiang Heiter Industries Co., Ltd.

Zhejiang Heiter Mfg & Trade Co. Ltd.

Zhejiang Jin Zeen Fasteners Co. Ltd.

Zhejiang Morgan Brother Technology Co. Ltd.

Zhejiang Yanfei Industrial Co., Ltd (a/k/a Jiangsu Ronry Nico Co., Ltd., Formerly Jiangsu Yanfei Industrial Co., Ltd.)

[FR Doc. 2014-28461 Filed 12-2-14; 8:45 am]

BILLING CODE 3510-DS-P